ADMINISTRATIVE CONFERENCE OF THE UNITED STATES

Notice of Public Meeting of the Assembly of the Administrative Conference of the United States

AGENCY: Administrative Conference of the United States.

ACTION: Notice.

SUMMARY: The Assembly of the Administrative Conference of the United States will meet during a one-day hybrid plenary session to consider three proposed recommendations and to conduct other business. Written comments may be submitted in advance, and the meeting will be accessible to the public.

DATES: The meeting will take place on Thursday, December 15, 2022, from 10 a.m.-4:45 p.m. The meeting may adjourn early if all business is finished.

ADDRESSES: For those attending in person, the meeting will be held at The George Washington University Law School in the Jacob Burns Moot Court Room, 2000 H Street NW, Washington, DC 20052. There will be a virtual attendance option. Information on how the public can access the meeting will be available on the agency's website prior to the meeting at https://www.acus.gov/meetings-and-events/plenary-meeting/78th-plenary-session.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: Three proposed recommendations will be considered by the Assembly. In addition, there will be updates on past, current, and pending Conference initiatives, as well as other business. Summaries of the recommendations appear below:

Precedential Decision Making in Agency Adjudication. This proposed recommendation identifies best practices on the use of precedential decisions in agency adjudication. It addresses whether agencies should issue precedential decisions and, if so, according to what criteria; what procedures agencies should follow to designate decisions as precedential and overrule previously designated decisions; and how agencies should communicate precedential decisions internally and publicly. It also recommends that agencies codify their procedures for precedential decision making in their rules of practice.

Public Availability of Settlement Agreements in Agency Enforcement Proceedings. This proposed recommendation identifies best practices for providing public access to settlement agreements reached during administrative enforcement proceedings. It recommends that agencies develop policies addressing when to post such agreements on their websites; provides factors for agencies to consider in determining which agreements to post on their websites; and identifies best practices for presenting settlement agreements in a clear, logical, and accessible manner without disclosing sensitive or otherwise protected information.

Regulatory Enforcement Manuals. This proposed recommendation identifies best practices for agencies regarding the use and availability of enforcement manuals—that is, documents that provide agency personnel with a single, authoritative resource for enforcement-related statutes, rules, and policies. It recommends that agencies present enforcement manuals in a clear, logical, and comprehensive fashion; periodically review and update them as needed; ensure enforcement personnel can easily access them; and consider making manuals, or portions of manuals, publicly available.

Additional information about the proposals and the agenda, as well as any changes or updates to the same, can be found at the 78th Plenary Session page on the Conference's website prior to the start of the meeting: at https://www.acus.gov/meetings-and-events/plenary-meeting/78th-plenary-session.

Public Participation: The Conference welcomes the virtual attendance of the public at the meeting. Members of the public wishing to view the meeting are asked to RSVP online at the 78th Plenary Session web page shown above no later than two days before the meeting to ensure adequate bandwidth. A link to a livestream of the meeting will be posted the morning of the meeting on the 78th Plenary Session web page. A video recording of the meeting will be available on the Conference's website shortly after the conclusion of the event at https://youtube.com/channel/UC1Gu44Jq1U7XsGdC9Tfl_zA.

Written Comments: Persons who wish to comment on any of the proposed recommendations may do so by submitting a written statement either online by clicking “Submit a comment” on the 78th Plenary Session web page shown above or by mail addressed to: December 2022 Plenary Session Comments, Administrative Conference of the United States, Suite 706 South, 1120 20th Street NW, Washington, DC 20036. Written submissions must be received no later than 10:00 a.m. (EDT), Friday, December 9, 2022, to ensure consideration by the Assembly.

(Authority: 5 U.S.C. 595)

Dated: November 22, 2022.
Shawne McGibbon,
General Counsel.

[FR Doc. 2022-25895 Filed 11-25-22; 8:45 am]

BILLING CODE 6110-01-P